DEPARTMENT OF HEALTH AND HUMAN SERVICES

Office of Inspector General

Program Exclusions: April 2004

AGENCY: Office of Inspector General, HHS.

ACTION: Notice of program exclusions.

During the month of April 2004, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions:
A Dental Center, P C—Allen Park | Allen Park, MI | 5/20/2004
Allen, Susanne | Murray, UT | 5/20/2004
Annis, Douglas | Cincinnati, OH | 5/20/2004
Arriaza, Ana | Paramount, CA | 5/20/2004
Avetissyan, Hakop | Burbank, CA | 5/20/2004
Beck, William | Seattle, WA | 5/20/2004
Bryant, Shenika | Miami, FL | 5/20/2004
Celentano, Anthony | Maspeth, NY | 5/20/2004
Chillers, Patricia | Dayton, OH | 5/20/2004
Cirsone, Faith | Seattle, WA | 5/20/2004
Cook, Deborah | Gilmer, TX | 5/20/2004
Coons, Toni | Stillwater, NY | 5/20/2004
Cruz, Maria | Philadelphia, PA | 5/20/2004
Durborow, Daniel | Delaware, OH | 5/20/2004
Edmonds, Eunice | Mableton, GA | 5/20/2004
Elie, John | Alexandria, LA | 5/20/2004
Enjoy Dental Care, P C | Detroit, MI | 5/20/2004
Faso, Frank | Ransomville, NY | 5/20/2004
Fernandez, Guillermo | Bay Harbor Islands, FL | 5/20/2004
Fernandez-Pedrinan, Ana | Bay Harbor Islands, FL | 5/20/2004
Finney, Lawanna | Dayton, OH | 5/20/2004
Gamez, Carla | Los Angeles, CA | 5/20/2004
Hasas, Masoud | Colorado Springs, CO | 5/20/2004
Haught, Charles | Dorset, OH | 5/20/2004
Hernandez, Alicia | Los Angeles, CA | 5/20/2004
Hernandez, Karla | Los Angeles, CA | 5/20/2004
Holland, Christopher | Dublin, OH | 5/20/2004
Holloway, Yashunda | Brookhaven, MS | 5/20/2004
Jannace, Peter | Louisville, KY | 5/20/2004
Kimber, Sonia | Colchester, VT | 5/20/2004
Kloosterman, Alvina | Grant Pass, OR | 5/20/2004
Kyaw, Maung | Glen Cove, NY | 5/20/2004
Langdon, Ann | Hamilton, OH | 5/20/2004
Lee, Hoi | Renton, WA | 5/20/2004
Leonardo, Joseph | Rochester, NY | 5/20/2004
Levin, Richard | Minersville, PA | 5/20/2004
Lewandowski, Mark | Redondo Beach, CA | 2/19/2004
Lundberg, Kim | Everett, WA | 5/20/2004
Lusk, Steven | Cookeville, TN | 5/20/2004
Macher, Mary | Klamath Falls, OR | 5/20/2004
Magsino, Rene | Los Angeles, CA | 5/20/2004
Manukian, Gagik | Terminal Island, CA | 5/20/2004
McBride, Deborah | Barnesville, OH | 5/20/2004
Metzger, Tiffany | Beach City, OH | 5/20/2004
Morales, Jose | Los Angeles, CA | 5/20/2004
Novin, Sheila | Pekin, IL | 5/20/2004
Perez, Martha | Los Angeles, CA | 5/20/2004
Postadjian, Aroutioon | Glandale, CA | 5/20/2004
Reed, Ronald | Oregon, WI | 5/20/2004
Roberts, Jodi | Lancaster, OH | 5/20/2004
Scott, Debra | Hollywood, FL | 5/20/2004
Seymour, Jessie | Sevierville, TN | 5/20/2004
Shower, Jody | Delaware, OH | 5/20/2004
Sierra-Pujols, Efrain | Bayamon, PR | 5/20/2004
Sininger, Jacqueline | West Union, OH | 5/20/2004
Stover, Robin | Largo, FL | 5/20/2004
Tahir, Azhar | Hammondsport, NY | 5/20/2004
Tighe, Mark | St Joseph, MO | 5/20/2004
Traynor, Patrick | Abington, PA | 5/20/2004
Weitzman, Raymond | West Bloomfield, MI | 5/20/2004
Westley, Anita | Columbus, OH | 5/20/2004
Williams, Sandra | Ontario, CA | 5/20/2004
Felony Conviction for Health Care Fraud:
Alverio, Megan | Buffalo, NY | 5/20/2004
Cerone, Rosanna | Albany, NY | 5/20/2004
Hammock, Jennifer | Wenatchee, WA | 5/20/2004
Health Information Resources, Inc | South Bend, IN | 5/20/2004
Lewis, Tameika | Milwaukee, WI | 5/20/2004
McNutt, George | Mesa, AZ | 5/20/2004
Melvin, Shirley | Pearl, MS | 5/20/2004
Nimchek, Dawn | Queensbury, NY | 5/20/2004
Prescription Services, Inc | South Bend, IN | 5/20/2004
Robledo, Shannon | Phoenix, AZ | 5/20/2004
Semko, Daniel | Richmond, IN | 5/20/2004
Tarver, Evelyn | Akron, OH | 5/20/2004
Felony Control Substance Conviction:
Antemie, Cristina | Kenmore, WA | 5/20/2004
Azzalina, Terry | Eaton, OH | 5/20/2004
Brophy, Samuel | Biddeford, ME | 5/20/2004
Crazythunder, Christopher | Albuquerque, NM | 5/20/2004
Drabovskiy, Yakov | Ashland, KY | 5/20/2004
Etemadi, Anthony | Houston, TX | 5/20/2004
Fex, Margaret | Guerneville, CA | 5/20/2004
Hattaway, Wendy | Wolf City, TX | 5/20/2004
Howe, Elliott | Roswell, GA | 5/20/2004
Jeck, Charles | Newtown, PA | 5/20/2004
Landefeld, Ronald | Marion, OH | 5/20/2004
Lewis, Angel | Largo, FL | 5/20/2004
Member, Bernard | Rockville, VA | 5/20/2004
Organ, Patricia | Mitchellville, IA | 5/20/2004
Osborn, Helen | Philadelphia, PA | 5/20/2004
Procter, David | Lexington, KY | 5/20/2004
Richards, Robert | Lehi, UT | 5/20/2004
Robinson, Brenda | Yantis, TX | 5/20/2004
Saber, Joseph | Delta, CO | 5/20/2004
Stewart, Jasmine | Colby, KS | 5/20/2004
Thrasher, Brenton | Lake Worth, FL | 5/20/2004
Weatherford, Charles | Winnfield, LA | 5/20/2004
Patient Abuse/Neglect Convictions:
Bello, John | Fredericksburg, VA | 5/20/2004
Black, Amber | Randolph, MS | 5/20/2004
Cardoza, Estelita | Papaaloa, HI | 5/20/2004
Corrigan, Christopher | Milwaukie, OR | 5/20/2004
Drain, William | Alamosa, CO | 5/20/2004
Driscoll, Virginia | Strasburg, CO | 5/20/2004
Enos, James | Hilo, HI | 5/20/2004
Freeman, Peter | New Windsor, NY | 5/20/2004
Gasper, Servando | Oxnard, CA | 5/20/2004
Gray, Robert | Chino, CA | 5/20/2004
Hatfield, Bradley | Thorn Hill, TN | 5/20/2004
Hawthorne, Dorothy | Midwest City, OK | 5/20/2004
Heim II, Ronald | Oakdale, IA | 5/20/2004
Kresenske, David | Boardman, OH | 5/20/2004
Kubski, George | W Palm Beach, FL | 5/20/2004
Murphy, Delores | Cleveland, OH | 5/20/2004
Pham, Luc | Umatilla, OR | 5/20/2004
Ries, Sara | Sherwood, OR | 5/20/2004
Rowe, Deborah | Lewiston, ME | 5/20/2004
Royer, Jo Ann | Miami, OK | 5/20/2004
Shackelford, Aundray | Tupelo, MS | 5/20/2004
Sherman, Forrest | Rockport, ME | 5/20/2004
Smith, Marjorie | Columbus, OH | 5/20/2004
Thurmond, Karl | Puyallup, WA | 5/20/2004
Wells, Curtis | Raymond, MS | 5/20/2004
Conviction for Health Care Fraud:
Mitchell, Tamil | Colorado Springs, CO | 5/20/2004
License Revocation/Suspension/Surrendered:
Aboloye, Pius | Grand Prairie, TX | 5/20/2004
Allison, Michelle | S Pittsburg, TN | 5/20/2004
Alper, Stephen | Bolton, NC | 5/20/2004
Anacker, Marlene | Prescott Valley, AZ | 5/20/2004
Angelilli, Robert | Holiday, FL | 5/20/2004
Arcusa, Arlene | Jacksonville, FL | 5/20/2004
Armstrong, Sharon | Whitney, TX | 5/20/2004
Ashby, Frances | Mystic, IA | 5/20/2004
Austin, Suzanne | Jacksonville, FL | 5/20/2004
Badertscher, Kirk | Kingman, AZ | 5/20/2004
Baird, David | Lansdale, PA | 5/20/2004
Bass, Sharon | Sanford, FL | 5/20/2004
Baumgartner, Sandra | Memphis, TN | 5/20/2004
Baxter, Gina | Concord, NC | 5/20/2004
Bayati, Keyvan | Reno, NV | 5/20/2004
Bell, Dalynda | Caddo Gap, AR | 5/20/2004
Bermudez, Catherine | Phoenix, AZ | 5/20/2004
Berry, Christi | Alexandria, LA | 5/20/2004
Blackwell, Tiawiana | Gary, IN | 5/20/2004
Booker, Brenda | Lawton, OK | 5/20/2004
Boone, Lewis | Ashland, KY | 5/20/2004
Boughton, Gerald | Casselberry, FL | 5/20/2004
Bowling, Elizabeth | Knoxville, TN | 5/20/2004
Bowman, Barbara | Santa Rosa, CA | 5/20/2004
Boyce, Nancy | Columbia, SC | 5/20/2004
Brady, Michael | Sacramento, CA | 5/20/2004
Brady, Patricia | Torrance, CA | 5/20/2004
Breland, Ray | Gainesville, FL | 5/20/2004
Brown, Jill | Charlotte, NC | 5/20/2004
Burnham, Victoria | Coral Springs, FL | 5/20/2004
Burns, Michelle | Sedona, AZ | 5/20/2004
Busch, Brian | Hoquiam, WA | 5/20/2004
Byars, Ruth | Chester, SC | 5/20/2004
Carswell, Kimberly | Murphy, NC | 5/20/2004
Casey, Donna | Stockton, CA | 5/20/2004
Cerami, Denise | Howell, NJ | 5/20/2004
Chapdelaine, David | Chicopee, MA | 5/20/2004
Cleveland, Rose | Phoenix, AZ | 5/20/2004
Cochrane, Regina | Whitman, MA | 5/20/2004
Coker, James | Venice, FL | 5/20/2004
Conover, William | Mt Holly, NJ | 5/20/2004
Cook, Rochelle | Creston, IA | 5/20/2004
Copeland, Leroy | Orange, FL | 5/20/2004
Cox, Deborah | Ankeny, IA | 5/20/2004
Craft, Lori | Gilbert, AZ | 5/20/2004
Daniel, John | Norton Shores, MI | 5/20/2004
Davenport, Bruce | Hermitage, TN | 5/20/2004
Davis, Debra | Sierra Vista, AZ | 5/20/2004
Degregorio, Deanna | Sneads Ferry, NC | 5/20/2004
Delaney, Joseph | Boulder, CO | 5/20/2004
Dippel, John | Kirkland, WA | 5/20/2004
Ditto, Jason | Los Angeles, CA | 5/20/2004
Dobson, Christopher | Portland, ME | 5/20/2004
Dodd, Halbert | Union City, TN | 5/20/2004
Donat, Peter | Laguna Niguel, CA | 5/20/2004
Donner, Howard | Telluride, CO | 5/20/2004
Downie-Cappellano, Rae-Ellen | Castleton, NY | 5/20/2004
Drumm, Christina | Prescott, AZ | 5/20/2004
Dunn, Jean | Mountian City, TN | 5/20/2004
Durbas, Cynthia | Largo, FL | 5/20/2004
Edwards, Jeffrey | Daytona Beach, FL | 5/20/2004
Ellis, Joan | Aurora, IL | 5/20/2004
Emerson, Barbara | Brown Mills, NJ | 5/20/2004
Erik, Denise | Salisbury, NC | 5/20/2004
Evergreen Medical Group, Inc | Whittier, CA | 5/20/2004
Fischer, Terry | Scottsdale, AZ | 5/20/2004
Foltys, Eric | Orland Park, IL | 5/20/2004
Fountain, Rodney | Pensacola, FL | 5/20/2004
Franks, Darrell | Louisville, KY | 5/20/2004
Frazier, Teresa | Mckeesport, PA | 5/20/2004
Freeman, Amy | Auburn, WA | 5/20/2004
Fuentes, Jesus | Hesperia, CA | 5/20/2004
Gallardo, Yolanda | Phoenix, AZ | 5/20/2004
Garden, Jeffrey | Lancaster, PA | 5/20/2004
Gay, Dorothy | Candler, NC | 5/20/2004
Getachew, Dawit | Ontario, CA | 5/20/2004
Gideon, Judith | Seattle, WA | 5/20/2004
Godinez, Miguel | Santa Rosa, CA | 5/20/2004
Gooder, Ronald | Casper, WY | 5/20/2004
Green, Treena | Lakeland, FL | 5/20/2004
Gustowski, Dianne | Worcester, MA | 5/20/2004
Haines, Constance | Lewiston, ID | 5/20/2004
Hampton, Kathy | Fernandina Beach, FL | 5/20/2004
Harbrecht, Keith | Martinez, CA | 5/20/2004
Harris, Cathy | St Petersburg, FL | 5/20/2004
Harris, Teresa | Holdenville, OK | 5/20/2004
Harter, Laura | Fort Wayne, IN | 5/20/2004
Hartwright, Alva | Washington, PA | 5/20/2004
Hawkins, Brian | Fountain Hills, AZ | 5/20/2004
Hayes, Paula | Sherman, TX | 5/20/2004
Helms, Lori | Shenandoah, IA | 5/20/2004
Herman, Theresa | Brick, NJ | 5/20/2004
Hernandez, Javier | Phoenix, AZ | 5/20/2004
Hockenberry, Michelle | Palm Springs, CA | 5/20/2004
Holmes, Linda | Phoenix, AZ | 5/20/2004
Houghton, Debra | Orange City, FL | 5/20/2004
Houle, Richard | New Britain, CT | 5/20/2004
Huelster, Margaret | W Palm Beach, FL | 5/20/2004
Humphreys, Deborah | Navarre, FL | 5/20/2004
Hussain, Tassawar | Everett, MA | 5/20/2004
Infante, Norma | Everett, WA | 5/20/2004
Ivie, Richard | Templeton, CA | 5/20/2004
James, Jasmine | Willingboro, NJ | 5/20/2004
James, Nino | Clermont, FL | 5/20/2004
Johndrew, William | Randolph, MA | 5/20/2004
Jones, Pamela | Olla, LA | 5/20/2004
Jones, Tonya | Enid, OK | 5/20/2004
Jordan, Kimberly | Elizabeth City, NC | 5/20/2004
Jtineant, Matthew | Huntsville, AL | 5/20/2004
Key, Joseph | Mount Airy, NC | 5/20/2004
Kissinger, James | Atlanta, GA | 5/20/2004
Leal, Angela | Centralia, WA | 5/20/2004
Lear, Frank | Glenwood, FL | 5/20/2004
Lee, Dorothy | Glendale, AZ | 5/20/2004
Little, Tracy | Tucson, AZ | 5/20/2004
Logan, Jeanette | Trenton, NJ | 5/20/2004
Love, Brenda | Tacoma, WA | 5/20/2004
Lugo, Fernando | Los Angeles, CA | 5/20/2004
Luloff, Geralynne | Denver, IA | 5/20/2004
Lussier, Toni | Granby, MA | 5/20/2004
Maguire, Eleanor | Moore, OK | 5/20/2004
Martel, June | Bedford, MA | 5/20/2004
McBride, Patti | Cushing, OK | 5/20/2004
McNeal, Jennifer | Lakeland, FL | 5/20/2004
Medeiros, Chris | New Bedford, MA | 5/20/2004
Miller, Jeanette | Mesa, AZ | 5/20/2004
Milliner, Randy | Tucson, AZ | 5/20/2004
Moore, Jeremy | Pensacola, FL | 5/20/2004
Moore, Marnie | Shelbyville, IN | 5/20/2004
Moss, Mary | Jerome, AZ | 5/20/2004
Mossie, Zoei | Tucson, AZ | 5/20/2004
Mowery, Stacey | Albemarle, NC | 5/20/2004
Mullen, Wayne | Garden Grove, CA | 5/20/2004
Mullins, Devin | Louisville, KY | 5/20/2004
Munford, Monati | Denver, CO | 5/20/2004
Myatt, Karen | Smiths Grove, KY | 5/20/2004
Neeley, Terri | New Cumberland, WV | 5/20/2004
Nunaley, Cathy | Milford, OH | 5/20/2004
Oakley, William | Cincinnati, OH | 5/20/2004
Parlow, Janet | Colorado Springs, CO | 5/20/2004
Patzer, David | Tucson, AZ | 5/20/2004
Perez, Marilyn | Phoenix, AZ | 5/20/2004
Peterson, Pethina | Jersey City, NJ | 5/20/2004
Pfaff, Robert | Lakeland, FL | 5/20/2004
Pfeifer, Lauren | Oakley, UT | 5/20/2004
Pfundt, Scott | Apache Junction, AZ | 5/20/2004
Phipps, Ernest | Howell, NJ | 5/20/2004
Pilson, Dale | Hillsboro, OR | 5/20/2004
Plant, Joseph | Milton, FL | 5/20/2004
Platt, Beverly | Plantsville, CT | 5/20/2004
Pollock, Nenita | Fontana, CA | 5/20/2004
Powers, Donna | Atascadero, CA | 5/20/2004
Pozeg, Paul | Belleview, FL | 5/20/2004
Prater, Valerie | Hilton Head Island, SC | 5/20/2004
Price, Sara | Pueblo, CO | 5/20/2004
Pruitt, Audra | Tucson, AZ | 5/20/2004
Randall, Carolyn | Greenwood, MS | 5/20/2004
Rawls, Russell | Sedro Wolley, WA | 5/20/2004
Reyes, Lisa | Orlando, FL | 5/20/2004
Robbins, Stephanie | Shelbyville, KY | 5/20/2004
Roberts, Deborah | Fort Wayne, IN | 5/20/2004
Roberts, Linda | N Richland Hills, TX | 5/20/2004
Robinson, Rhonda | Camp Verde, AZ | 5/20/2004
Robinson, Valeri | Milton, FL | 5/20/2004
Rodman, Alan | Carmichael, CA | 5/20/2004
Roser, Carmela | Marion, OH | 5/20/2004
Ross, Ben | Show Low, AZ | 5/20/2004
Rumbel, Mark | Winter Haven, FL | 5/20/2004
Russell, Donald | Fort Benton, MT | 5/20/2004
Russo, Laura | Scotia, NY | 5/20/2004
Sacca, Colleen | Palmyra, NJ | 5/20/2004
Salinas, Frances | Phoenix, AZ | 5/20/2004
Schwartz, Danette | Sweetwater, TN | 5/20/2004
Serio, Susan | Barrington, RI | 5/20/2004
Shacket, Ricky | San Diego, CA | 5/20/2004
Sheehan, Erin | Gloucester, MA | 5/20/2004
Shemwell, Frank | Paducah, KY | 5/20/2004
Shepard, Kenneth | Asheville, NC | 5/20/2004
Sibley, Lee | Haverill, MA | 5/20/2004
Silverman, Kristyn | Hollywood, FL | 5/20/2004
Simmons-Southern, Felicia | Bedford Heights, OH | 5/20/2004
Sleeper, Lisa | Jacksonville, FL | 5/20/2004
Smith, Barbara | Canton, OH | 5/20/2004
Spector, Paul | New York, NY | 5/20/2004
Strand, Glen | Seattle, WA | 5/20/2004
Sweeden, Sally | Harcourt, IA | 5/20/2004
Szoke, Lisanna | Newbury Park, CA | 5/20/2004
Thiroux, Mark | Aberdeen, WA | 5/20/2004
Thompson, Candy | Scotsburg, IN | 5/20/2004
Tierney, Jennifer | Phoenix, AZ | 5/20/2004
Todd, Morris | Glens Falls, NY | 5/20/2004
Todd, Travis | Alva, OK | 5/20/2004
Treannie, Jeffrey | Otis Orchards, WA | 5/20/2004
Trease, Rebecca | Mammoth, AZ | 5/20/2004
Urquhart, Michael | Bonifay, FL | 5/20/2004
Valauskas, Brenda | Seymour, CT | 5/20/2004
Valentine, Rhoda | Perkins, OK | 5/20/2004
Vandevender-Jones, Sandra | Semmes, AL | 5/20/2004
Verduzco, Jeannie | Rochester, WA | 5/20/2004
Wade, Karen | Cedar Rapids, IA | 5/20/2004
Walker, Kimberly | Worcester, MA | 5/20/2004
Webb, Richard | Glenpool, OK | 5/20/2004
Weddle, Joseph | Cashmere, WA | 5/20/2004
Wells, William | Fort Thomas, KY | 5/20/2004
Williams, Adrien | Del City, OK | 5/20/2004
Woodruff, Leslie | Rockledge, FL | 5/20/2004
Woods, Debra | Madison, TN | 5/20/2004
Woods, Rhonda | Lynchburg, TN | 5/20/2004
Woodyard, Laurie | Conover, NC | 5/20/2004
Woolfolk, Loretta | Marysville, CA | 5/20/2004
Wright, Amanda | Payson, UT | 5/20/2004
Wright, Robert | Everett, WA | 5/20/2004
Federal/State Exclusion/Suspension:
Kirkham, Dan | Los Angeles, CO | 5/20/2004
Fraud/Kickbacks:
Judge, Michael | Warwick, RI | 3/3/2004
Owned/Controlled By Convicted Entities:
Boughton Chiropractic Center, PA | Casselberry, FL | 5/20/2004
Compassionate Home Care | Minneapolis, MN | 10/20/2003
Lowery Drugs, Inc | Sunnyside, NY | 5/20/2004
Robert J Pfaff, MD, PA | Lakeland, FL | 5/20/2004
Shantiram, Inc | Plainview, NY | 5/20/2004
Teofilo PO, MD, Facs, Inc | Whittier, CA | 5/20/2004
Default on Heal Loan:
Colose, Lynne | Schenectady, NJ | 5/20/2004
Lascano-Daralegui, Roberto | Berkeley, CA | 5/20/2004

Dated: May 4, 2004.
Katherine B. Petrowski,
Director, Exclusions Staff, Office of Inspector General.

[FR Doc. 04-10903 Filed 5-13-04; 8:45 am]

BILLING CODE 4150-04-P